OFFICE OF THE UNITED STATES TRADE REPRESENTATIVE

Request for Nominations Based on Updated Membership Criteria for the Intergovernmental Policy Advisory Committee on Trade

AGENCY: Office of the United States Trade Representative.

ACTION: Request for Nominations; Amendment of Membership Criteria.

SUMMARY: This notice amends the Intergovernmental Policy Advisory Committee on Trade (IGPAC)—Charter Reestablishment and Request for Nominations Notice of April 1, 2014 (79 FR 18382) to revise the membership eligibility criteria pursuant to the Revised Guidance on the Appointment of Lobbyists to Federal Advisory Committees, Boards and Commissions, published by the Office of Management and Budget (OMB) on August 13, 2014. Federally-registered lobbyists are no longer prohibited from serving on the IGPAC in a representative capacity in light of OMB's recent policy clarification that the eligibility restriction does not apply to advisory committee members who are specifically appointed to represent the interests of a nongovernmental entity, a recognizable group of persons or nongovernmental entities (an industry sector, labor unions, environmental groups, etc.), or state or local governments. The lobbyist prohibition continues to apply to persons serving on advisory committees in their individual capacity. The United States Trade Representative now will consider nominations of federally-registered lobbyists for appointment to the IGPAC as members who serve in a representative capacity. All other eligibility criteria continue to apply.

DATES: These revised membership criteria are effective immediately. Nominations for membership to the IGPAC (including self-nominations) will be accepted on a rolling basis.

ADDRESSES: Submit nominations to Julia Friedman, Attorney-Advisor for the Office of the U.S. Trade Representative's Office of Intergovernmental Affairs and Public Engagement, at iape@ustr.eop.gov. For alternatives to email submission, please contact Julia Friedman at (202) 395-6120.

FOR FURTHER INFORMATION CONTACT: Julia Friedman, Attorney-Advisor for the Office of the U.S. Trade Representative's Office of Intergovernmental Affairs and Public Engagement, at (202) 395-6120.

SUPPLEMENTARY INFORMATION:

Background

Section 135 of the Trade Act of 1974, as amended (19 U.S.C. 2155), established a trade advisory system to ensure that U.S. trade policy and trade negotiation objectives adequately reflect U.S. commercial and economic interests. Section 135(a)(1) directs the President to:

Seek information and advice from representative elements of the private sector and the non-Federal governmental sector with respect to:

(A) Negotiating objectives and bargaining positions before entering into a trade agreement under [title I of the Trade Act of 1974 and section 2103 of the Bipartisan Trade Promotion Authority Act of 2002];

(B) The operation of any trade agreement once entered into, including preparation for dispute settlement panel proceedings to which the United States is a party; and

(C) Other matters arising in connection with the development, implementation, and administration of the trade policy of the United States.

Section 135(a)(2) directs the President to:

Consult with representative elements of the private sector and the non-Federal governmental sector on the overall current trade policy of the United States. The consultations shall include, but are not limited to, the following elements of such policy:

(A) The principal multilateral and bilateral trade negotiating objectives and the progress being made toward their achievement.

(B) The implementation, operation, and effectiveness of recently concluded multilateral and bilateral trade agreements and resolution of trade disputes.

(C) The actions taken under the trade laws of the United States and the effectiveness of such actions in achieving trade policy objectives.

(D) Important developments in other areas of trade for which there must be developed a proper policy response.

Section 135(c)(3) provides that:

[T]he President may, if necessary, establish policy advisory committees representing non-Federal governmental interests to provide policy advice on matters referred to in Section 135(a), and with respect to implementation of trade agreements.

Pursuant to these provisions, the Office of the U.S. Trade Representative established the IGPAC.

Functions

The duties of the IGPAC are to provide the President, through the United States Trade Representative, with advice, and policy recommendations on matters related to trade that have a significant relationship to the affairs of non-Federal governmental interests including any U.S. state, territory, or possession, and any political subdivision, agency, or instrumentality thereof. The IGPAC will meet as needed at the call of the United States Trade Representative or his designee depending on various factors such as the level of activity of trade negotiations and the needs of the United States Trade Representative, or at the call of two-thirds of the IGPAC members.

Membership

Members serve without compensation and are responsible for all expenses incurred to attend the meetings. IGPAC members are appointed by the United States Trade Representative. Appointments are made at the chartering of the IGPAC and periodically throughout the four-year charter term, which ends on April 4, 2018, unless otherwise extended. Members serve at the discretion of the United States Trade Representative.

Members are selected to represent their sponsoring non-Federal governmental entities' interests, and thus nominees are considered foremost based upon their ability to carry out the goals of section 135(c)(3)(A) of the Trade Act of 1974, as amended. Other criteria are the nominee's knowledge of and expertise in international trade issues as relevant to the work of the IGPAC. While all or almost all IGPAC members will represent their sponsoring non-Federal entities' interests, it is possible that the United States Trade Representative may appoint members who serve in an individual capacity as subject matter experts. Appointments to the IGPAC are made without regard to political affiliation with an interest in ensuring balance in terms of sectors, demographics, and other factors relevant to the IGPAC's needs.

Request for Nominations

The Office of the U.S. Trade Representative is soliciting nominations for membership on the IGPAC. To be appointed to the IGPAC, the following eligibility criteria must be met:

1. The applicant must be a U.S. citizen.

2. If serving in an individual capacity, the applicant must not be a federally-registered lobbyist.

3. The applicant must not be registered with the U.S. Department of Justice under the Foreign Agents Registration Act.

4. The applicant must be able to obtain and maintain a security clearance.

5. For representative members, who will comprise the overwhelming majority of the IGPAC, the applicant must represent a non-Federal governmental entity, including, but not limited to, the executive and legislative branches of U.S. states, territories, possessions, and political subdivisions thereof, including local, county and municipal governments, or any agency or instrumentality thereof. The applicant also may represent an association or organization that represents the interests of U.S. non-Federal governmental entities.

6. For members who will serve in an individual capacity, the applicant must possess subject matter expertise regarding international trade issues relevant to non-Federal governmental entities.

To be considered for IGPAC membership, interested persons should submit the following to Julia Friedman at iape@ustr.eop.gov:

1. Applicant's name, title, affiliation, and contact information.

2. If applicable, a sponsor letter on the non-Federal governmental entity's letterhead that contains a brief description of the manner in which international trade affects the entity and why the applicant should be considered for membership.

3. Applicant's personal resume.

4. An affirmative statement that the applicant and, if applicable, the Non-Federal governmental entity the applicant represents, meets all eligibility requirements.

Applicants who meet the eligibility criteria will be considered for membership based on the following factors: Ability to represent the sponsoring non-Federal governmental entity's interests on trade matters; knowledge of and experience in trade matters relevant to the work of the IGPAC; and ensuring that IGPAC members are appointed from and are reasonably representative of U.S. non-Federal governmental entities.

Dated: August 29, 2014.
Jewel James,
Assistant U.S. Trade Representative, Intergovernmental Affairs and Public Engagement.

[FR Doc. 2014-21123 Filed 9-4-14; 8:45 am]

BILLING CODE 3290-F4-P